DEPARTMENT OF HOMELAND SECURITY

Coast Guard

33 CFR Part 100

[Docket Number USCG-2018-0949]

RIN 1625-AA08

Special Local Regulations; Recurring Marine Events, Sector St. Petersburg

AGENCY: Coast Guard, DHS.

ACTION: Notice of proposed rulemaking.

SUMMARY: The Coast Guard proposes to revise existing regulations and consolidate into one table special local regulations for recurring marine events at various locations within the geographic boundaries of the Seventh Coast Guard District Captain of the Port (COTP) St. Petersburg Zone. Consolidating marine events into one table simplifies Coast Guard oversight and public notification of special local regulations within COTP St. Petersburg Zone. The Coast Guard invites your comments on this proposed rulemaking.

DATES: Comments and related material must be received by the Coast Guard on or before February 13, 2020.

ADDRESSES: You may submit comments identified by docket number USCG-2018-0749 using the Federal eRulemaking Portal at http://www.regulations.gov. See the “Public Participation and Request for Comments” portion of the SUPPLEMENTARY INFORMATION section for further instructions on submitting comments.

FOR FURTHER INFORMATION CONTACT: If you have questions about this proposed rulemaking, call or email Marine Science Technician First Class Michael D. Shackleford, Sector St. Petersburg Prevention Department, Coast Guard; telephone (813) 228-2191, email Michael.d.shackleford@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background, Purpose, and Legal Basis

Recurring marine events within the Seventh Coast Guard District are currently listed in 33 CFR 100.701, Table to § 100.701. The process for amending the table (e.g. adding or removing marine events) is lengthy and inefficient since it includes recurring marine events for seven different COTP zones within the Seventh District. To expedite and simplify the rule-making process for new marine events/special local regulations, COTP's resorted to creating individual rules rather than amending the Table to § 100.701.

This rule serves two purposes: (1) Create a table of recurring marine events/special local regulations occurring solely within the COTP St. Petersburg Zone, and (2) consolidate into that table marine events/special local regulations previously established outside of Table to § 100.701. The proposed new table would facilitate management of and public access to information about marine events within the COTP St. Petersburg Zone.

The Coast Guard proposes this rulemaking under authority in 46 U.S.C. 70041.

III. Discussion of Proposed Rule

This rule proposes to make the following changes:

1. Establish 33 CFR 100.703 Special Local Regulations; Marine Events Within the Captain of the Port St. Petersburg Zone;

2. Remove the existing marine events/special local regulations listed in Table to § 100.701(c) under COTP Zone St. Petersburg; Special Local Regulations to proposed new § 100.703, Table to § 100.703;

3. Delete the existing special local regulation in § 100.717 for the “Annual Fort Myers Beach Offshore Grand Prix; Fort Myers, FL” because it is no longer held;

4. Delete the existing special local regulation in in § 100.718 for the “Annual Suncoast Kilo Run; Sarasota Bay, Sarasota, FL” because it is no longer held;

5. Move the existing special local regulation in § 100.720 for the event, “Suncoast Super Boat Grand Prix, Gulf of Mexico; Sarasota, FL” to proposed new § 100.703, Table to § 100.703, and delete existing § 100.720;

6. Move the existing special local regulation in § 100.721 for the event, “Clearwater Super Boat National Championship, Gulf of Mexico; Clearwater Beach, FL”, to proposed new § 100.703, Table to § 100.703, and delete existing § 100.721;

7. Move the existing special local regulation in § 100.722 for the event, “Bradenton Area Riverwalk Regatta, Manatee River; Bradenton, FL” to proposed new § 100.703, Table to § 100.703, and delete existing § 100.722;

8. Delete the existing special local regulation in § 100.728 for the event, “Hurricane Offshore Classic, St. Petersburg, FL” because it is no longer held;

9. Move the existing special local regulation in § 100.734 for the event, “Annual Gasparilla Marine Parade; Hillsborough bay, Tampa, FL” to proposed new § 100.703, Table to § 100.703, and delete existing § 100.734;

10. Move the existing special local regulation in § 100.735 for the event, “Annual OPA World Championships, Gulf of Mexico; Englewood Beach, FL” to proposed new § 100.703, Table to § 100.703, and delete existing § 100.735;

11. Delete the existing special local regulation in § 100.736 for the event, “Annual Fort Myers Beach air show” because it is no longer held;

12. Delete the existing special local regulation in § 100.740 for the event, “Annual Offshore Super Series Boat Race” because it is no longer held;

13. Add new event, “Gulfport Grand Prix, Gulfport, FL” to proposed new § 100.703, Table to § 100.703, Line 3;

14. Add new event, “St. Pete Beach Grand Prix of the Gulf, St. Pete Beach, FL” to proposed new § 100.703, Table to § 100.703, Line 4;

15. Add new event, “Battle of the Bridges, Venice, FL” to proposed new § 100.703, Table to § 100.703, Line 6; and

16. Add new event, “Roar Offshore, Fort Myers Beach, FL” to proposed new § 100.703, Table to § 100.703, Line 8.

The marine events as listed in proposed new Table to proposed new § 100.703, Table to § 100.703 are scheduled to occur over a particular time during each month each year. Exact dates are intentionally omitted since calendar dates for a specific events change from year to year. Once dates for a marine event are known, the Coast Guard will notify the public of its intent to enforce the special local regulation through various means including a Notice of Enforcement published in the Federal Register, Local Notice to Mariners, and Broadcast Notice to Mariners.

IV. Regulatory Analyses

We developed this proposed rule after considering numerous statutes and Executive orders related to rulemaking. Below we summarize our analyses based on a number of these statutes and Executive orders and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This NPRM has not been designated a “significant regulatory action,” under Executive Order 12866. Accordingly, the NPRM has not been reviewed by the Office of Management and Budget (OMB), and pursuant to OMB guidance it is exempt from the requirements of Executive Order 13771.

This regulatory action determination is based on the size, location, and duration of the special local regulations. These areas are limited in size and duration, and usually do not affect high vessel traffic areas. Moreover, the Coast Guard would provide advance notice of the regulated areas to the local maritime community via Notice of Enforcement published in the Federal Register, by Local Notice to Mariners, Broadcast to Mariners via VHF-FM marine channel 16, and the rule would allow vessels to seek permission to enter the regulated area.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above, this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175, Consultation and Coordination with Indian Tribal Governments, because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves the establishment of special local regulations for recurring marine events within the COTP St. Petersburg Zone. Normally such actions are categorically excluded from further review under paragraphs L61 of Appendix A, Table 1 of DHS Instruction Manual 023-01-001-01, Rev. 1. A preliminary Memorandum for Record supporting this determination is available in the docket where indicated in ADDRESSES. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, see DHS's Correspondence System of Records notice (84 FR 48645, September 26, 2018).

Documents mentioned in this NPRM as being available in the docket, and all public comments, will be in our online docket at http://www.regulations.gov and can be viewed by following that website's instructions. Additionally, if you go to the online docket and sign up for email alerts, you will be notified when comments are posted or a final rule is published.

List of Subjects in 33 CFR Part 100

Harbors, Marine Safety, Navigation (water), Reporting and Record keeping requirements, Security measures, Waterways.

For the reasons discussed in the preamble, the Coast Guard proposes to amend 33 CFR parts 100 as follows:

PART 100—SAFETY OF LIFE ON NAVIGABLE WATERS

1. The authority citation for Part 100 continues to read as follows:

Authority: 46 U.S.C. 70041; 33 CFR 1.05-1.

2. In § 100.701 revise Table to § 100.701.

§ 100.701 Special Local Regulations; Marine Events in the Seventh Coast Guard District.

* * * * *

Table to § 100.701
No./date | Event | Sponsor | Location
(a) COTP Zone San Juan; Special Local Regulations
1. 1st Friday, Saturday, and Sunday of February | CNSJ International Regatta | Club Nautico de San Juan | San Juan, Puerto Rico; (1) Outer Harbor Race Area. All waters of Bahia de San Juan within a line connecting the following points: Starting at Point 1 in position 18°28.4′ N, 66°07.6′ W; then south to Point 2 in position 18°28.1′ N, 66°07.8′ W; then southeast to Point 3 in position 18°27.8′ N, 66°07.4′ W; then southeast to point 4 in position 18°27.6′ N, 66°07.3′ W; then west to point 5 in position 18°27.6′ N, 66°07.8′ W; then north to point 6 in position 18°28.4′ N, 66°07.8′ W; then east to the origin.
|  |  | (2) Inner Harbor Race Area; All waters of Bahia de San Juan within a line connecting the following points: Starting at Point 1 in position 18°27.6′ N, 66°07.8′ W; then east to Point 2 in position 18°27.6′ N, 66°07.1′ W; then southeast to Point 3 in position 18°27.4′ N, 66°06.9′ W; then west to point 4 in position 18°27.4′ N, 66°07.7′ W; then northwest to the origin.
2. Last Full Weekend of March | St. Thomas International Regatta | St. Thomas Yacht Club | St. Thomas, U.S. Virgin Islands; All waters of St. Thomas Harbor encompassed within the following points: Starting at Point 1 in position 18°19.9′ N, 64°55.9′ W; thence east to Point 2 in position 18°19.97′ N, 64°55.8′ W; thence southeast to Point 3 in position 18°19.6′ N, 64°55.6′ W; thence south to point 4 in position 18°19.1′ N, 64°55.5′ W; thence west to point 5 in position 18°19.1′ N, 64°55.6′ W; thence north to point 6 in position 18°19.6′ N, 64°55.8′ W; thence northwest back to origin at Harbor, St. Thomas, San Juan.
3. Last week of April | St. Thomas Carnival | Virgin Islands Carnival Committee | St. Thomas, U.S. Virgin Islands; (1) Race Area. All waters of the St. Thomas Harbor located around Hassel Island, St. Thomas, U.S. Virgin Island encompassed within the following points: Starting at Point 1 in position 18°20.2′ N, 64°56.1′ W; thence southeast to Point 2 in position 18°19.7′ N, 64°55.7′ W; thence south to Point 3 in position 18°19.4′ N, 64°55.7′ W; thence southwest to point 4 in position 18°19.3′ N, 64°56.0′ W; thence northwest to point 5 in position 18°19.9′ N, 64°56.5′ W; thence northeast to point 6 in position 18°20.2′ N, 064°56.3′ W; thence east back to origin.
|  |  | (2) Jet Ski Race Area. All waters encompassed the following points: Starting at Point 1 in position 18°20.1′ N, 64°55.9′ W; thence west to Point 2 in position 18°20.1′ N, 64°56.1′ W; thence north to Point 3 in position 18°20.3′ N, 64°56.1′ W; thence east to Point 4 in position 18°20.3′ N, 64°55.9′ W; thence south back to origin.
|  |  | (3) Buffer Zone. All waters of the St. Thomas Harbor located around Hassel Island, encompassed within the following points: Starting at Point 1 in position 18°20.3′ N, 64°55.9′ W; thence southeast to Point 2 in position 18°19.7′ N, 64°55.7′ W; thence south to Point 3 in position 18°19.3′ N, 64°55.72′ W; thence southwest to Point 4 in position 18°19.2′ N, 64°56′ W; thence northwest to Point 5 in position 18°19.9′ N, 64°56.5′ W; thence northeast to Point 6 in position 18°20.3′ N, 64°56.3′ W; thence east back to origin.
|  |  | (4) Spectator Area. All waters of the St. Thomas Harbor located east of Hassel Island, encompassed within the following points: Starting at Point 1 in position 18°20.3′ N, 64°55.8′ W; thence southeast to Point 2 in position 18°19.9′ N, 64°55.7′ W; thence northeast to Point 3 in position 18°20.2′ N, 64°55.5′ W; thence northwest back to origin.
4. 1st Sunday of May | Ironman 70.3 St. Croix | Project St. Croix, Inc | St. Croix (Christiansted Harbor), U.S. Virgin Islands; All waters encompassed within the following points: point 1 on the shoreline at Kings Wharf at position 17°44′51″ N, 064°42′16″ W, thence north to point 2 at the southwest corner of Protestant Cay in position 17°44′56″ N, 064°42′12″ W, then east along the shoreline to point 3 at the southeast corner of Protestant Cay in position 17°44′56″ N, 064°42′08″ W, thence northeast to point 4 at Christiansted Harbor Channel Round Reef Northeast Junction Lighted Buoy RR in position 17°45′24″ N, 064°41′45″ W, thence southeast to point 5 at Christiansted Schooner Channel Lighted Buoy 5 in position 17°45′18″ N, 064°41′43″ W, thence southwest to point 6 at Christiansted Harbor Channel Buoy 15 in position 17°44′56″ N, 064°41′56″ W, thence southwest to point 7 on the shoreline north of Fort Christiansted in position 17°44′51″ N, 064°42′05″ W, thence west along the shoreline to origin.
5. July 4th | Fireworks Display | St. John Festival & Cul., Org | St. John (West of Cruz Bay/Northeast of Steven Cay), U.S. Virgin Islands; All waters from the surface to the bottom for a radius of 200 yards centered around position 18°19′55″ N, 064°48′06″ W.
6. 3rd Week of July, Sunday | San Juan Harbor Swim | Municipality of Cataño | San Juan Harbor, San Juan, Puerto Rico; All waters encompassed within the following points: point 1: La Puntilla Final, Coast Guard Base at position 18°27′33″ N, 066°07′00″ W, then south to point 2: Cataño Ferry Pier at position 18°26′36″ N, 066°07′00″ W, then northeast along the Cataño shoreline to point 3: Punta Cataño at position 18°26′40″ N, 066°06′48″ W, then northwest to point 4: Pier 1 San Juan at position 18°27′40″ N, 066°06′49″ W, then back along the shoreline to origin.
7. 1st Sunday of September | Cruce A Nado International | Cruce a Nado Inc | Ponce Harbor, Bahia de Ponce, San Juan; All waters of Bahia de Ponce encompassed within the following points: Starting at Point 1 in position 17°58.9′ N, 66°37.5′ W; thence southwest to Point 2 in position 17°57.5′ N, 66°38.2′ W; thence southeast to Point 3 in position 17°57.4′ N, 66°37.9′ W; thence northeast to point 4 in position 17°58.7′ N, 66°37.3′ W; thence northwest along the northeastern shoreline of Bahia de Ponce to the origin.
8. 2nd Sunday of October | St. Croix Coral Reef Swim | The Buccaneer Resort | St. Croix, U.S. Virgin Islands; All waters of Christiansted Harbor within the following points: Starting at Point 1 in position 18°45.7′ N, 64°40.6′ W; then northeast to Point 2 in position 18°47.3′ N, 64°37.5 W; then southeast to Point 3 in position 17°46.9′ N, 64°37.2′ W; then southwest to point 4 in position 17°45.51′ N, 64°39.7′ W; then northwest to the origin.
9. December 31st | Fireworks St. Thomas, Great Bay | Mr. Victor Laurenza, Pyrotecnico, New Castle, PA | St. Thomas (Great Bay area), U.S. Virgin Islands; All waters within a radius of 600 feet centered around position 18°19′14″ N, 064°50′18″ W.
10. December—1st week | Christmas Boat Parade | St. Croix Christmas Boat Committee | St. Croix (Christiansted Harbor), U.S. Virgin Islands; 200 yards off-shore around Protestant Cay beginning in position 17°45′56″ N, 064°42′16″ W, around the cay and back to the beginning position.
11. December—2nd week | Christmas Boat Parade | Club Nautico de San Juan | San Juan, Puerto Rico; Parade route. All waters of San Juan Harbor within a moving zone that will begin at Club Nautico de San Juan, move towards El Morro and then return, to Club Nautico de San Juan; this zone will at all times extend 50 yards in front of the lead vessel, 50 yards behind the last vessel, and 50 yards out from all participating vessels.
(b) COTP Zone Key West; Special Local Regulations
1. 3rd Saturday of January, Monday-Friday | Yachting Key West Race Week | Premiere Racing, Inc | Inside the reef on either side of main ship channel, Key West Harbor Entrance, Key West, Florida.
2. Last Friday of April | Conch Republic Navy Parade and Battle | Conch Republic | All waters approximately 150 yards offshore from Ocean Key Sunset Pier, Mallory Square and the Hilton Pier within the Key West Harbor in Key West, Florida.
3. 1st Weekend of June | Swim around Key West | Florida Keys Community College | Beginning at Smather's Beach in Key West, Florida. The regulated area will move, west to the area offshore of Fort Zach State Park, north through Key West Harbor, east through Flemming Cut, south on Cow Key Channel and west back to origin The center of the regulated area will at all times remain approximately 50 yards offshore of the island of Key West, Florida; extend 50 yards in front of the lead safety vessel preceding the first race participants; extend 50 yards behind the safety vessel trailing the last race participants; and at all times extend 100 yards on either side of the race participants and safety vessels.
4. 2nd Week of November, Wednesday-Sunday | Key West World Championship | Super Boat International Productions, Inc | In the Atlantic Ocean, off the tip of Key West, Florida, on the waters of the Key West Main Ship Channel, Key West Turning Basin, and Key West Harbor Entrance.
(c) COTP Zone Jacksonville; Special Local Regulations
1. Last Saturday of February | El Cheapo Sheepshead Tournament | Jacksonville Offshore Fishing Club | Mayport Boat Ramp, Jacksonville, Florida; 500 foot radius from the boat ramp.
2. 1st Saturday of March | Jacksonville Invitational | Stanton Rowing Foundation (May vary) | Ortega River Race Course, Jacksonville, Florida; South of Timuquana Bridge.
3. 1st Saturday of March | Stanton Invitational (Rowing Race) | Stanton Rowing Foundation | Ortega River Race Course, Jacksonville, Florida; South of Timuquana Bridge.
4. 1st weekend of March | Hydro X Tour | H2X Racing Promotions | Lake Dora, Tavares, Florida; All waters encompassed within the following points: Starting at Point 1 in position 28°47′59″ N, 81°43′41″ W; thence south to Point 2 in position 28°47′53″ N, 81°43′41″ W; thence east to Point 3 in position 28°47′53″ N, 81°43′19″ W; thence north to Point 4 in position 28°47′59″ N, 81°43′19″ W; thence west back to origin.
5. 2nd Full Weekend of March | TICO Warbird Air Show | Valiant Air Command | Titusville; Indian River, FL: All waters encompassed within the following points: Starting at the shoreline then due east to Point 1 at position 28°31′25.15″ N, 080°46′32.73″ W, then south to Point 2 located at position 28°30′55.42″ N, 080°46′32.75″ W, then due west to the shoreline.
6. 3rd Weekend of March | Tavares Spring Thunder Regatta | Classic Race Boat Association | Lake Dora, Florida, waters 500 yards seaward of Wooten Park.
7. Palm Sunday in March or April | Blessing of the Fleet—Jacksonville | City of Jacksonville Office of Special Events | St. Johns River, Jacksonville, Florida in the vicinity of Jacksonville Landing between the Main Street Bridge and Acosta Bride.
8. Palm Sunday in March or April | Blessing of the Fleet—St. Augustine | City of St. Augustine | St. Augustine Municipal Marina (entire marina), St. Augustine Florida.
9. 1st Full Weekend of April (Saturday and Sunday) | Mount Dora Yacht Club Sailing Regatta | Mount Dora Yacht Club | Lake Dora, Mount Dora, Florida—500 feet off Grantham Point.
10. 3rd Saturday of April | Jacksonville City Championships | Stanton Rowing Foundation | Ortega River Race Course, Jacksonville, Florida; South of Timuquana Bridge.
11. 3rd weekend of April | Florida Times Union Redfish Roundup | The Florida Times-Union | Sister's Creek, Jacksonville, Florida; All waters within a 100 yard radius of Jim King Park and Boat Ramp at Sister's Creek Marina, Sister's Creek.
12. 2nd Weekend in May | Saltwater Classic—Port Canaveral | Cox Events Group | All waters of the Port Canaveral Harbor located in the vicinity of Port Canaveral, Florida encompassed within the following points: Starting at Point 1 in position 28°24′32″ N, 080°37′22″ W, then north to Point 2 28°24′35″ N, 080°37′22″ W, then due east to Point 3 at 28°24′35″ N, 080°36′45″ W, then south to Point 4 at 28°24′32″ N, 080°36′45″, then west back to the original point.
13. 1st Friday of May | Isle of Eight Flags Shrimp Festival Pirate Landing and Fireworks | City of Fernandina Beach | All waters within a 500 yard radius around approximate position 30°40′15″ N, 81°28′10″ W.
14. 1st Saturday of May | Mug Race | The Rudder Club of Jacksonville, Inc | St. Johns River; Palatka to Buckman Bridge.
15. 3rd Friday—Sunday of May | Space Coast Super Boat Grand Prix | Super Boat International Productions, Inc | Atlantic Ocean in the vicinity of Cocoa Beach, Florida includes all waters encompassed within the following points: Starting at Point 1 in position 28°22′16″ N, 80°36′04″ W; thence east to Point 2 in position 28°22′15″ N, 80°35′39″ W; thence south to Point 3 in position 28°19′47″ N, 80°35′55″ W; thence west to Point 4 in position 28°19′47″ N, 80°36′22″ W; thence north back to origin.
16. 4th weekend of May | Memorial Day RiverFest | City of Green Cove Springs | St. Johns River, Green Cove Springs, Florida; All waters within a 500-yard radius around approximate position 29°59′39″ N, 081°40′33″ W.
17. Last full week of May (Monday-Friday) | Bluewater Invitational Tournament | Northeast Florida Marlin Association | There is a no-wake zone in affect from the St. Augustine City Marina out to the end of the St. Augustine Jetty's 6 a.m.-8 a.m. and 3 p.m.-5 p.m. during the above days.
18. 2nd weekend of June | Hydro X Tour | H2X Racing Promotions | Lake Dora, Tavares, Florida; All waters encompassed within the following points: Starting at Point 1 in position 28°47′59″ N, 81°43′41″ W; thence south to Point 2 in position 28°47′53″ N, 81°43′41″ W; thence east to Point 3 in position 28°47′53″ N, 81°43′19″ W; thence north to Point 4 in position 28°47′59″ N, 81°43′19″ W; thence west back to origin.
19. 1st Saturday of June | Florida Sport Fishing Association Offshore Fishing Tournament | Florida Sport Fishing Association | Port Canaveral, Florida from Sunrise Marina to the end of Port Canaveral Inlet.
20. 2nd weekend of June (Saturday and Sunday) | Kingfish Challenge | Ancient City Game Fish Association | There is a no-wake zone in affect from the St. Augustine City Marina in St. Augustine, Florida out to the end of the St. Augustine Jetty's 6 a.m.-8 a.m. and 3 p.m.-5 p.m.
21. 3rd Friday-Sunday of June | Daytona Beach Grand Prix of the Sea | Powerboat P1-USA | All waters of the Atlantic Ocean East of Cocoa Beach, Florida encompassed within the following points: Starting at Point 1 in position 29°14′60″ N, 81°00′77″ W; thence east to Point 2 in position 29°14′78″ N, 80°59′802″ W; thence south to Point 3 in position 28°13′860″ N, 80°59′76″ W; thence west to Point 4 in position 29°13′68″ N, 81°00′28″ W; thence north back to origin.
22. 3rd Saturday of July | Halifax Rowing Association Summer Regatta | Halifax Rowing Association | Halifax River, Daytona, Florida, south of Memorial Bridge—East Side.
23. 3rd week of July | Greater Jacksonville Kingfish Tournament | Jacksonville Marine Charities, Inc | Jacksonville, Florida; All waters of the St. Johns River, from lighted buoy 10 (LLNR 2190) in approximate position 30°24′22″ N, 081°24′59″ W to Lighted Buoy 25 (LLNR 7305).
24. Last weekend of September | Jacksonville Dragon Boat Festival | In the Pink Boutique, Inc | St. John's River, Jacksonville, Florida. In front of the Landing, between the Acosta & Main Street bridges from approximate position 30°19′26″ N, 081°39′47″ W to approximate position 30°19′26″ N, 81°39′32″ W.
25. 2nd week of October | First Coast Head Race | Stanton Rowing Foundation | St. Johns River and Arlington River, Jacksonville, Florida, starting near the Arlington Marina and ending on the Arlington River near the Atlantic Blvd. Bridge.
26. 1st weekend of November | Hydro X Tour | H2X Racing Promotions | Lake Dora, Tavares, Florida; All waters encompassed within the following points: Starting at Point 1 in position 28°47′59″ N, 81°43′41″ W; thence south to Point 2 in position 28°47′53″ N, 81°43′41″ W; thence east to Point 3 in position 28°47′53″ N, 81°43′19″ W; thence north to Point 4 in position 28°47′59″ N, 81°43′19″ W; thence west back to origin.
27. 3rd Weekend of November | Tavares Fall Thunder Regatta | Classic Race Boat Association | Lake Dora, Florida, waters 500 yards seaward of Wooten Park.
28. 2nd Saturday of December | St. Johns River Christmas Boat Parade | St. Johns River Christmas Boat Parade, Inc | St. Johns River, Deland, Florida; Whitehair Bridge, Deland to Lake Beresford.
29. 2nd Saturday of December | Christmas Boat Parade (Daytona Beach/Halifax River) | Halifax River Yacht Club | Daytona Beach, Florida; Halifax River from Seabreeze Bridge to Halifax Harbor Marina.
(d) COTP Zone Savannah; Special Local Regulations
1. May, 2nd weekend, Sunday | Blessing of the Fleet—Brunswick | Knights of Columbus—Brunswick | Brunswick River from the start of the East branch of the Brunswick River (East Brunswick River) to the Golden Isles Parkway Bridge.
2. 3rd full weekend of July | Augusta Southern Nationals Drag Boat Races | Augusta Southern Nationals | Savannah River, Augusta, Georgia, from the US Highway 1 (Fifth Street) Bridge at mile 199.5 to Eliot's Fish Camp at mile 197.
3. Last weekend of September | Ironman 70.3 | Ironman | All waters of the Savannah River encompassed within the following points: Starting at Point 1 in position 33°28′44″ N, 81°57′53″ W; thence northeast to Point 2 in position 33°28′50″ N, 81°57′50″ W; thence southeast to Point 3 in position 33°27′51″ N, 81°55′36″ W; thence southwest to Point 4 in position 33°27′47″ N, 81°55′43″ W; thence northwest back to origin.
4. 1st Saturday after Thanksgiving Day in November | Savannah Harbor Boat Parade of Lights and Fireworks | Westin Resort, Savannah | Savannah River, Savannah Riverfront, Georgia, Talmadge bridge to a line drawn at 146 degrees true from Dayboard 62.
5. 2nd Saturday of November | Head of the South Regatta | Augusta Rowing Club | Savannah River, Augusta, Georgia; All waters within a moving zone, beginning at Daniel Island Pier in approximate position 32°51′20″ N, 079°54′06″ W, South along the coast of Daniel Island, across the Wando River to Hobcaw Yacht Club, in approximate position 32°49′20″ N, 079°53′49″ W, South along the coast of Mt. Pleasant, S.C., to Charleston Harbor Resort Marina, in approximate position 32°47′20″ N, 079°54′39″ W. There will be a temporary Channel Closer from 0730 to 0815 on June 01, 2013 between Wando River Terminal Buoy 3 (LLNR 3305), and Wando River Terminal Buoy 5 (LLNR 3315). The zone will at all times extend 75 yards in front of the lead safety vessel preceding the first race participants; 75 yards behind the safety vessel trailing the last race participants; and at all times extending 100 yards on either side of the race participants and safety vessels.

3. Add § 100.703 to read as follows:

§ 100.703 Special Local Regulations; Recurring Marine Events, Sector St. Petersburg.

The following regulations apply to the marine events listed in Table 1 of this section. These regulations will be effective annually, for the duration of each event listed in Table 1. Annual notice of the exact dates and times of the effective period of the regulation with respect to each event, the geographical area, and details concerning the nature of the event and the number of participants and type(s) of vessels involved will be provided to the local maritime community through the Local Notice to Mariners, Broadcast Notice to Mariners, or both, well in advance of the events. If the event does not have a date listed, then the exact dates and times of the enforcement will be announced through a Notice of Enforcement in the Federal Register.

(a) Definitions. The following definitions apply to this section:

(1) Designated Representative. The term “designated representative” means Coast Guard Patrol Commanders, including Coast Guard coxswains, petty officers, others operating Coast Guard vessels, and Federal, state, and local officers designated by or assisting the Captain of the Port (COTP) St. Petersburg in the enforcement of the regulated areas.

(2) Spectators. All persons and vessels not registered with the event sponsor as participants.

(b) Event Patrol. The Coast Guard may assign an event patrol, as described in § 100.40 of this part, to each regulated event listed in the table. Additionally, a Patrol Commander may be assigned to oversee the patrol. The event patrol and Patrol Commander may be contacted on VHF Channel 16.

(c) Special Local Regulations. (1) The COTP St. Petersburg or designated representative may forbid and control the movement of all vessels in the regulated area. When hailed or signaled by an official patrol vessel, a vessel in these areas shall immediately comply with the directions given. Failure to do so may result in expulsion from the area, citation for failure to comply, or both.

(2) The COTP St. Petersburg or designated representative may terminate the event, or the operation of any vessel participating in the event, at any time it is deemed necessary for the protection of life or property.

(3) Only event sponsor designated participants and official patrol vessels are allowed to enter the regulated area, unless otherwise authorized by the COTP St. Petersburg or designated representative.

(4) Spectators are only allowed inside the regulated area if they remain within a designated spectator area. Spectators may contact the COTP St. Petersburg or designated representative to request permission to enter, transit through, remain within, or anchor in the regulated area. If permission is granted, spectators must abide by the directions of the COTP St. Petersburg or a designated representative.

(d) Event Delays or Termination. The COTP St. Petersburg or designated representative may delay or terminate any event in this subpart at any time to ensure safety of life or property. Such action may be justified as a result of weather, traffic density, spectator operation, or participant behavior.

Table to § 100.703—Special Local Regulations; Recurring Marine Events, Sector St. Petersburg
[Datum NAD 1983]
Date/time | Event/sponsor | Location | Regulated area
1. One Saturday in January. Time (Approximate): 11:30 a.m. to 2 p.m | Gasparilla Invasion and Parade/Ye Mystic Krewe of Gasparilla | Tampa, Florida | Location: A regulated area is established consisting of the following waters of Hillsborough Bay and its tributaries north of 27°51′18″ N and south of the John F. Kennedy Bridge: Hillsborough Cut “D” Channel, Seddon Channel, Sparkman Channel and the Hillsborough River south of the John F. Kennedy Bridge.
|  |  | Additional Regulation: (1) Entrance into the regulated area is prohibited to all commercial marine traffic from 9 a.m. to 6 p.m. EST on the day of the event.
|  |  | (2) The regulated area will include a 100 yard Safety Zone around the vessel JOSE GASPAR while docked at the Tampa Yacht Club until 6 p.m. EST on the day of the event.
|  |  | (3) The regulated area is a “no wake” zone.
|  |  | (4) All vessels within the regulated area shall stay 50 feet away from and give way to all officially entered vessels in parade formation in the Gasparilla Marine Parade.
|  |  | (5) When within the marked channels of the parade route, vessels participating in the Gasparilla Marine Parade may not exceed the minimum speed necessary to maintain steerage.
|  |  | (6) Jet skis and vessels without mechanical propulsion are prohibited from the parade route.
|  |  | (7) Vessels less than 10 feet in length are prohibited from the parade route unless capable of safely participating.
|  |  | (8) Vessels found to be unsafe to participate at the discretion of a present Law Enforcement Officer are prohibited from the parade route.
|  |  | (9) Northbound vessels in excess of 65 feet in length without mooring arrangement made prior to the date of the event are prohibited from entering Seddon Channel unless the vessel is officially entered in the Gasparilla Marine Parade.
|  |  | (10) Vessels not officially entered in the Gasparilla Marine Parade may not enter the parade staging area box within the following coordinates: 27°53′53″ N, 082°27′47″ W; 27°53′22″ N, 082°27′10″ W; 27°52′36″ N, 082°27′55″ W; 27°53′02″ N, 082°28′31″ W.
2. One Saturday in February. Time (Approximate): 9:00 a.m. to 9:00 p.m | Bradenton Area River Regatta/City of Bradenton | Bradenton, FL | Location(s) Enforcement Area #1. All waters of the Manatee River between the Green Bridge and the CSX Train Trestle contained within the following points: 27°30′43″ N, 082°34′20″ W, thence to position 27°30′44″ N, 082°34′09″ W, thence to position 27°30′00″ N, 082°34′04″ W, thence to position 27°29′58″ N, 082°34′15″ W, thence back to the original position, 27°30′43″ N, 082°34′20″ W.
|  |  | Enforcement Area #2. All waters of the Manatee River contained within the following points: 27°30′35″ N, 082°34′37″ W, thence to position 27°30′35″ N, 082°34′26″ W, thence to position 27°30′26″ N, 082°34′26″ W, thence to position 27°30′26″ N, 082°34′37″ W, thence back to the original position, 27°30′35″ N, 082°34′37″ W.
3. One weekend (Friday, Saturday, and Sunday) in March. Time (Approximate): 8:00 a.m. to 5:00 p.m | Gulfport Grand Prix/Gulfport Grand Prix LLC | Gulfport, FL | Location(s): (1) Race Area. All waters of Boca de Ciego contained within the following points: 27°44′10″ N, 082°42′29″ W, thence to position 27°44′07″ N, 082°42′40″ W, thence to position 27°44′06″ N, 082°42′40″ W, thence to position 27°44′04″ N, 082°42′29″ W, thence to position 27°44′07″ N, 082°42′19″ W, thence to position 27°44′08″ N, 082°42′19″ W, thence back to the original position, 27°44′10″ N, 082°42′29″ W.
|  |  | (2) Buffer Zone. All waters of Boca de Ciego encompassed within the following points: 27°44′10″ N, 082°42′47″ W, thence to position 27°44′01″ N, 082°42′44″ W, thence to position 27°44′01″ N, 082°42′14″ W, thence to position 27°44′15″ N, 082°42′14″ W.
4. One weekend (Saturday and Sunday) in June. Time (Approximate): 8:00 a.m. to 4:00 p.m | St. Pete Beach Grand Prix of the Gulf/Powerboat P-1 USA, LLC | St. Pete Beach, FL | Location: All waters of the Gulf of Mexico encompassed within the following points: 27°43′41″ N, 082°46′15″ W, thence to position 27°44′14″ N, 082°45′16″ W, thence to position 27°43′41″ N, 082°44′43″ W, thence to position 27°42′57″ N, 082°45′59″ W, thence back to the original position 27°43′41″ N, 082°46′15″ W.
5. One weekend (Saturday and Sunday) in July. Time (Approximate): 8:00 a.m. to 5:00 p.m | Sarasota Powerboat Grand Prix/Powerboat P-1 USA, LLC | Sarasota, FL | Location: All waters of the Gulf of Mexico contained within the following points: 27°18′44″ N, 082°36′14″ W, thence to position 27°19′09″ N, 082°35′13″ W, thence to position 27°17′42″ N, 082°34′00″ W, thence to position 27°16′43″ N, 082°34′49″ W, thence back to the original position, 27°18′44″ N, 082°36′14″ W.
6. One Saturday in September. Time (Approximate): 6:00 a.m. to 6 p.m | Battle of the Bridges/Sarasota Scullers Youth Rowing Program | Venice, FL | Location: All waters of the Intracoastal Waterway south of a line made connecting the following points: 27°06′15″ N, 082°26′43″ W, to position 27°06′12″ N, 082°26′43″ W, and all waters of the Intracoastal Waterway north of a line made connecting the following points: 27°03′21″ N, 082°26′17″ W, to position 27°03′19″ N, 082°26′15″ W.
7. One Sunday in September. Time (Approximate): 11:30 a.m. to 4:00 p.m | Clearwater Offshore Nationals/Race World Offshore | Clearwater, FL | Locations: (1) Race Area. All waters of the Gulf of Mexico contained within the following points: 27°58′34″ N, 82°50′09″ W, thence to position 27°58′32″ N, 82°50′02″ W, thence to position 28°00′12″ N, 82°50′10″ W, thence to position 28°00′13″ N, 82°50′10″ W, thence back to the original position, 27°58′34″ N, 82°50′09″ W.
|  |  | (2) Spectator Area. All waters of Gulf of Mexico seaward no less than 150 yards from the race area and as agreed upon by the Coast Guard and race officials.
|  |  | (3) Enforcement Area. All waters of the Gulf of Mexico encompassed within the following points: 28°58′40″ N, 82°50′37″ W, thence to position 28°00′57″ N, 82°49′45″ W, thence to position 27°58′32″ N, 82°50′32″ W, thence to position 27°58′23″ N, 82°49′53″ W, thence back to position 28°58′40″ N, 82°50′37″ W.
8. One Thursday, Friday, and Saturday in October. Time (Approximate): 10:00 a.m. to 5:00 p.m | Roar Offshore/OPA Racing LLC | Fort Myers Beach, FL | Locations: All waters of the Gulf of Mexico west of Fort Myers Beach contained within the following points: 26°26′27″ N, 081°55′55″ W, thence to position 26°25′33″ N, longitude 081°56′34″ W, thence to position 26°26′38″ N, 081°58′40″ W, thence to position 26°27′25″ N, 081°58′8″ W, thence back to the original position 26°26′27″ N, 081°55′55″ W.
9. One weekend (Friday, Saturday, and Sunday) in November. Time (Approximate): 8:00 a.m. to 6:00 p.m | OPA World Championships/Englewood Beach Waterfest | Englewood Beach, FL | Locations: (1) Race Area. All waters of the Gulf of Mexico contained within the following points: 26°56′00″ N, 082°22′11″ W, thence to position 26°55′59″ N, 082°22′16″ W, thence to position 26°54′22″ N, 082°21′20″ W, thence to position 26°54′24″ N, 082°21′16″ W, thence to position 26°54′25″ N, 082°21′17″ W, thence back to the original position, 26°56′00″ N, 082°21′11″ W.
|  |  | (2) Spectator Area. All waters of the Gulf of Mexico contained with the following points: 26°55′33″ N, 082°22′21″ W, thence to position 26°54′14″ N, 082°21′35″ W, thence to position 26°54′11″ N, 082°21′40″ W, thence to position 26°55′31″ N, 082°22′26″ W, thence back to position 26°55′33″ N, 082°22′21″ W.
|  |  | (3) Enforcement Area. All waters of the Gulf of Mexico encompassed within the following points: 26°56′09″ N, 082°22′12″ W, thence to position 26°54′13″ N, 082°21′03″ W, thence to position 26°53′58″ N, 082°21′43″ W, thence to position 26°55′56″ N, 082°22′48″ W, thence back to position 26°56′09″ N, 082°22′12″ W.

§§ 100.717, 100.718, 100.720, 100.722, 100.728, 100.734, 100.735, 100.736 and 100.740 [Removed]

4. Remove §§ 100.717, 100.718, 100.720, 100.722, 100.728, 100.734, 100.735, 100.736 and 100.740.

Dated: January 8, 2020.
Matthew A. Thompson,
Captain, U.S. Coast Guard, Captain of the Port Sector St. Petersburg.

[FR Doc. 2020-00330 Filed 1-13-20; 8:45 am]

BILLING CODE 9110-04-P